DEPARTMENT OF STATE

[Public Notice 3372]

Bureau of Educational and Cultural Affairs Request for Proposals: NIS College and University Partnerships Program (NISCUPP)

SUMMARY: The Office of Global Educational Programs of the Bureau of Educational and Cultural Affairs in the Department of State announces an open competition for an assistance award program. Accredited, post-secondary educational institutions meeting the provisions described in IRS regulation 26 CFR 1.501c may apply to pursue institutional or departmental objectives in partnership with foreign counterpart institutions from the New Independent States with support from the NIS College and University Partnerships Program. These objectives should support the overall goals of the program: to support the transition of the New Independent States to democratic systems based on market economies, and to strengthen mutual understanding and cooperation between the United States and the New Independent States. The means for achieving these objectives may include teaching, scholarship, and professional outreach to professionals and other members of the communities served by the participating institutions.

Program Overview

Underlying the specific institutional objectives of projects funded by this program should be the goals of encouraging the growth of freedom and democracy through a deepened mutual understanding of fundamental issues and practical applications in the encouragement of civil society, economic stability and prosperity, or the free flow of information. Innovative strategies to address these underlying concerns in the pursuit of clearly defined institutional objectives are encouraged. Outreach from academic institutions to larger communities of citizens and practitioners to extend understanding about these issues is also encouraged.

The Bureau supports institutional linkages in higher education with partners from the New Independent States of the former Soviet Union through the NIS College and University Partnerships Program, for which this Request for Proposals invites applications for funding in FY2001. The Bureau also anticipates issuing a separate and additional Request for Proposals for a partnership program for community colleges interested in cooperating with institutions in some or all of the New Independent States. Eligible community colleges may apply for grants under either or both of the above competitions, but the Bureau will not give multiple awards for duplicate partnerships under these competitions.

The Bureau also supports institutional linkages in higher education with partners worldwide through the College and University Affiliations Program; the College and University Affiliations Program Request for Proposals was announced separately and has a deadline of November 13, 2000. Applicants interested in the Bureau's College and University Affiliations Program should contact the Bureau's Humphrey Fellowships and Institutional Linkages Branch at (202) 619-5289.

Applicant Objectives

While the benefits of the project to each of the participating institutions may differ significantly in nature and scope, proposals should outline well-reasoned strategies leading to specific, demonstrable changes at the department or institution in the NIS.

For example, proposals may describe the parameters and possible content of new courses, new research or teaching capacities or methodologies, new or revised curricula or programs, or other changes anticipated as a result of the project. Proposals to pursue a limited number of related thematic objectives at each institution are preferred to proposals addressing a large number of unrelated objectives.

Proposals must focus on curriculum, faculty, and staff development, as well as administrative reform, at the NIS partner institution(s) in one or more of these eligible disciplines. Projects should involve the development of new academic programs or the restructuring of existing programs, and should promote higher education's role in the transition to market economies and open democratic systems. Whenever feasible, participants should make their training and personnel resources and research results available to government, NGOs, and businesses.

Partner institutions may pursue their institutional objectives through exchanges of teachers, researchers, administrators or, in limited circumstances, students for any appropriate combination of teaching, consultation, research, and outreach, for periods ranging from one week to an academic year. The strategy for achieving project objectives may include exchange visits in either or both directions, but no single formula is anticipated for the duration, sequence, or number of these visits. Visits of one semester or more for participants from each of the institutional partners are strongly encouraged. To provide adequate time to meet institutional project objectives, the Program awards grants for periods of approximately three years.

Although strong budgetary and programmatic emphasis may be given to visits in one direction over another, the benefits of all these visits to the sending as well as the receiving sides should be clearly explained. Exchange visits for the purpose of attending conferences are not encouraged except in combination with other grant activities and in support of specific educational objectives at one or more of the participating institutions.

Proposals that realistically assess institutional capacities will be better able to justify the request for support.

Effective proposals will demonstrate that the proposed partnership institutions understand one another and are committed to support and cooperate with another in project implementation. Accordingly, proposals should reflect substantial awareness of the foreign as well as the U.S. partner(s).

If the proposed partnership would occur within the context of a previous or ongoing project, the proposal should explain how the request for Bureau funding would build upon the pre-existing relationship or complement previous and concurrent projects, which must be listed and described with details about the amounts and sources of external support. Previous projects should be described in the proposal, and the results of the evaluation of previous cooperation efforts should be summarized.

Proposals should outline and budget for a methodology for project evaluation. The evaluation plan should include an updated assessment of the current status of each participating department's and institution's needs at the time of program inception; ongoing formative evaluation to allow for prompt corrective action; and, at the conclusion of the project, summative evaluation of the degree to which the project's objectives have been achieved together with observations about the project's influence within the participating institutions and their surrounding communities or societies. The final evaluation should also include recommendations about how to build upon project achievements, both with and without the Bureau's support. Evaluative observations by external consultants with appropriate subject or regional expertise are especially encouraged.

Costs

The commitment of all partner institutions to the proposed project should be reflected in the cost-sharing which they offer in the context of their respective institutional capacities. Although the contributions offered by U.S. and foreign institutions with relatively few resources may be less than those offered by other applicants, all participating institutions are expected to identify substantial costs to contribute. These costs may include the estimated costs of in-kind contributions for which funds are not exchanged. Consistent with the “Review Criteria” for this competition listed elsewhere in this document and with specific reference to “Cost-Sharing” and “Institutional Commitment to Cooperation,” proposed cost-sharing will be considered an important indicator of each participating institution's interest in the project and of the institution's potential to benefit from it.

Proposals must be submitted by the U.S. institutional partner and must include a letter of commitment from the foreign partner(s). The letters should be signed by persons authorized to commit institutional resources to the project. U.S. and foreign partner institutions are encouraged to consult about the proposed project with program office staff in Washington, DC.

The Bureau's support may be used to defray the costs of the exchange visits as well as the costs (up to a maximum of 20 percent of the total grant) of their administration at any partner institution, including administrative salaries and direct administrative costs but excluding indirect costs. Although grants will be issued to eligible U.S. colleges and universities, adequate provision for the administrative costs of the project at all partner institutions, including the foreign partner(s), is encouraged.

The proposal may include a request for funding to reinforce the activities of exchange participants through the establishment and maintenance of Internet and/or electronic mail communication facilities as well as through interactive technology or non-technology-based distance-learning programs. However, projects focusing primarily on technology or physical infrastructure development are not encouraged. Proposals that include Internet, electronic mail, and other interactive technologies should discuss how the foreign partner institution will support the costs of such technologies after the project ends. Applicants may propose other project activities not specifically anticipated in this solicitation if the activities reinforce exchange activities and their impact.

The maximum award in the FY2001 competition will be $300,000. Requests for smaller amounts are eligible. Budgets and budget notes should carefully justify the amounts requested. Grants awarded to organizations with less than four years of experience in conducting international exchange programs will be limited to $60,000. Grants are subject to the availability of funds for Fiscal Year 2001. The amount of funding available for proposals to the NIS College and University Partnerships Program in FY 2001 has not yet been determined. In FY 2000, 56 proposals were received under this competition. Of this number, approximately 20 proposals are anticipated to be funded.

Eligible Fields

The NIS College and University Partnership Program is limited to the following academic fields:

(1) law;

(2) business/accounting/trade;

(3) education/continuing education/educational administration;

(4) public administration/public policy analysis;

(5) journalism/communications; and

(6) social, political, or economic sciences

U.S. Institution and Participant Eligibility

In the United States, participation in the program is open to accredited two-and four-year colleges and universities, including graduate schools. Applications from community colleges, minority-serving institutions, undergraduate liberal arts colleges, research universities, and combinations of these types of institutions are eligible. Applications from consortia or other combinations of U.S. colleges and universities are eligible. Secondary U.S. partners may include non-governmental organizations as well as non-profit service and professional organizations. The lead U.S. organization in the consortium or other combination of cooperating institutions is responsible for submitting the application. Each application must document the lead organization's authority to represent all U.S. cooperating partners.

With the exception of outside consultants reporting on the degree to which project objectives have been achieved, participants representing the U.S. institution who are traveling under the Bureau's grant funds must be faculty or staff from the participating institution(s). Participants representing the U.S. institution must be U.S. citizens.

Foreign Institution and Participant Eligibility

In other countries, participation is open to recognized institutions of post-secondary education. Secondary foreign partners may include relevant governmental and non-governmental organizations, as well as non-profit service and professional organizations.

With the exception of outside consultants reporting on the degree to which project objectives have been achieved, participants representing the foreign institutions must be faculty or staff of the foreign institution. Foreign participants must be citizens, nationals, or permanent residents of the country of the foreign partner and must be qualified to hold a valid passport and a U.S. J-1 visa.

Foreign Country and Location Eligibility

Foreign partners from the following countries are eligible:

Armenia;

Azerbaijan;

Belarus—foreign partners must be independent institutions (state universities are not eligible);

Georgia;

Kazakhstan;

Kyrgyzstan;

Moldova;

Russia—preference will be given to proposals which designate partner institutions outside Moscow and St. Petersburg; proposals for partnerships with institutions located in Moscow or St. Petersburg should clearly indicate how those partnerships will have impact on other regions. Proposals which designate a partner institution in the Tomsk Region are encouraged.

Tajikistan—in consideration of the State Department Warning advising U.S. citizens to defer travel to Tajikistan, proposals should not include travel by U.S. participants to Tajikistan;

Turkmenistan;

Ukraine—preference will be given to proposals which designate partner institutions outside Kiev; proposals for partnerships with institutions located in Kiev should clearly indicate how those partnerships will have impact on other regions;

Uzbekistan.

Partnerships including a secondary foreign partner from a non-NIS country are eligible; however, with the exception noted below, the Bureau will not cover overseas non-NIS partner institution costs.

Central European Partners

The Bureau encourages proposals which build upon established collaboration between U.S. institutions and partners in Central and Eastern Europe in order to support faculty and curriculum development in the NIS and to promote regional cooperation. Within the context of this partnership agreement and under the guidance of the U.S. partner institution, funds may be budgeted for the exchange of faculty between NIS institutions and institutions of higher learning in Central and Eastern Europe (applicants planning to submit proposals for trilateral partnerships with a partner from Central and Eastern Europe are encouraged to contact the program office).

Ineligibility

A proposal may be deemed technically ineligible if:

(1) It does not fully adhere to the guidelines established herein and in the Solicitation Package;

(2) It is not received by the deadline;

(3) It is not submitted by the U.S. partner;

(4) One of the partner institutions is ineligible;

(5) The foreign country or geographic location is ineligible;

(6) The amount requested from the Bureau exceeds $300,000.

Grant-Making Authority

Overall grant-making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program cited above is provided through the Freedom for Russia and Emerging Eurasian Democracies and Open Markets Support Act of 1992 (Freedom Support Act).

Projects must conform with the Bureau's requirements and guidelines outlined in the solicitation package for this RFP, which can be obtained by following the instructions given in the section below entitled “For Further Information.” The “Project Objectives, Goals, and Implementation” (hereafter, POGI) and the “Project Specific Instructions” (hereafter, PSI), which contain additional guidelines, are included in the Solicitation Package. Proposals that do not follow RFP requirements and the guidelines appearing in the POGI and PSI may be excluded from consideration due to technical ineligibility.

Announcement Title and Number

All communications with the Bureau concerning this announcement should refer to the NIS College and University Partnerships Program and reference number ECA/A/S/U-01-06.

Deadline for Proposals

All copies must be received at the Bureau of Educational and Cultural Affairs by 5 p.m. Washington, D.C. time on Friday, January 19, 2001. Faxed documents will not be accepted, nor will documents postmarked on Friday, January 19, 2001 but received on a later date.

Approximate program dates: Grant activities should begin on or about August 15, 2001.

Program Duration: Approximately August 15, 2001-August 14, 2004.

FOR FURTHER INFORMATION: Contact the Humphrey Fellowships and Institutional Linkages Branch (College and University Affiliations Program); Office of Global Educational Programs; Bureau of Educational and Cultural Affairs; ECA/A/S/U, Room 349; U.S. Department of State; SA-44, 301 Fourth Street, SW.; Washington, DC 20547; phone: (202) 619-5289, fax: (202) 401-1433. Applicants may also send a message to affiliation@pd.state.gov to request a Solicitation Package.

The Solicitation Package includes more detailed award criteria; all application forms; and guidelines for preparing proposals, including specific criteria for preparation of the proposal budget. Please specify Bureau Program Officer Michelle Johnson (telephone: 202-619-4097, e-mail: johnsonmi@pd.state.gov) on all inquiries and correspondence regarding partnerships with institutions in Russia; please indicate Bureau Program Officer Jonathan Cebra (telephone: 202-619-4126, e-mail: jcebra@pd.state.gov) on all inquiries and correspondence regarding partnerships with institutions in Ukraine, Belarus, and Moldova; please indicate Bureau Program Officer Alanna Bailey (telephone: 202-619-6492, e-mail: abailey@pd.state.gov) on all inquiries and correspondence regarding partnerships with institutions in any other eligible country (in the Central Asia or Caucasus regions).

To Download a Solicitation Package Via Internet

The entire Solicitation Package may be downloaded from the Bureau's website at http://exchanges.state.gov/education/rfps. Please read all information before downloading.

Please specify “NIS Colleges and Universities Partnerships Program Officer” on all inquiries and correspondence. Prospective applicants should read the complete Federal Register announcement before addressing inquiries to the College and University Affiliations Program staff or submitting their proposals. Once the RFP deadline has passed, Department staff may not discuss this competition in any way with applicants until the Bureau proposal review process has been completed.

Submissions

Applicants must follow all instructions given in the Solicitation Package. The original and 10 copies of the complete application should be sent to: U.S. Department of State, SA-44, Ref: ECA/A/S/U-01-06, Program Management, ECA/EX/PM, Room 336, Bureau of Educational and Cultural Affairs, 301 4th Street, SW., Washington, DC 20547.

All copies should include the documents specified under Tabs A through E in the “Project Objectives, Goals, and Implementation” (POGI) section of the Solicitation Package. The documents under Tab F of the POGI should be submitted with the original application and with one of the ten copies.

Applicants must also submit the “Executive Summary” and “Proposal Narrative” sections of the proposal on a 3.5” diskette, formatted for DOS. This material must be provided in ASCII text (DOS) format with a maximum line length of 65 characters. The Bureau will transmit these files electronically to the Public Affairs Sections at U.S. Embassies for review, with the goal of reducing the time needed to make the comments of overseas posts available in the Bureau's grant review process.

Diversity, Freedom and Democracy Guidelines

Pursuant to the Bureau's authorizing legislation, projects must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should account for advancement of this goal, in their program contents, to the full extent deemed feasible.

Review Process

The Bureau will acknowledge receipt of all proposals and will review them for technical eligibility. Proposals will be deemed ineligible if they do not fully adhere to the guidelines stated herein and in the Solicitation Package. All eligible proposals will be evaluated by independent external reviewers.

The independent external reviewers, who will be professional, scholarly, or educational experts with appropriate regional and thematic knowledge, will provide recommendations and assessments for consideration by the Bureau. The Bureau will consider for funding only those proposals which are recommended for further consideration by the independent external reviewers.

Proposals will also be reviewed by Department staff as well as by the officers of the Office of the Coordinator of United States Assistance to the New Independent States and the public diplomacy sections of U.S. Embassies. Proposals may also be reviewed by the Office of the Legal Advisor or by other offices of the U.S. Department of State. Funding decisions will be made at the discretion of the Under Secretary for Public Diplomacy and Public Affairs. Final technical authority for assistance awards (grants or cooperative agreements) will reside with a contracts officer with competency for Bureau programs.

Review Criteria

All reviewers will use the criteria below to reach funding recommendations and decisions. Technically eligible applications will be reviewed competitively according to these criteria, which are not rank-ordered or weighted.

(1) Broad Significance of Institutional Objectives: Project objectives should have significant but realistically anticipated ongoing consequences for the participating institutions that will also contribute to the transition of the New Independent States to market economies and democratic societies.

(2) Clarity and Relevance of Project Objectives to Institutional Needs: Proposed projects should outline clearly formulated objectives that relate specifically to the needs of the participating institutions.

(3) Creativity and Feasibility of Project Implementation: Plan to achieve project objectives should demonstrate the feasibility of doing so during a three-year period by utilizing and reinforcing exchange activities realistically and with creativity.

(4) Institutional Commitment to Cooperation: Proposals should demonstrate significant understanding at each institution of its own needs and capacities and of the needs and capacities of its proposed partner(s), together with a strong commitment, during and after the period of grant activity, to cooperate with one another in the mutual pursuit of institutional objectives.

(5) Project Evaluation: Proposals should outline a methodology for determining the degree to which a project meets its objectives, both while the project is underway and at its conclusion. The final project evaluation should include an external component and should provide observations about the project's influence within the participating institutions as well as their surrounding communities or societies.

(6) Cost-effectiveness: Administrative and program costs should be reasonable and appropriate with cost-sharing provided by all participating institutions within the context of their respective capacities and as a reflection of their commitment to cooperate with one another in pursuing project objectives. Although indirect costs are eligible for inclusion among costs to be contributed by the applicant, contributions should not be limited to indirect costs.

(7) Support of Diversity: Proposals should demonstrate substantive support of the Bureau's policy on diversity by explaining how issues of diversity relate to project objectives for all institutional partners and how these issues will be addressed during project implementation. Proposals should also outline the institutional profile of each participating institution with regard to issues of diversity.

Notice

The terms and conditions published in this RFP are binding and may not be modified by any State Department representative. Explanatory information provided by the Department of State that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: July 16, 2000.
Evelyn S. Lieberman,
Under Secretary for Public Diplomacy and Public Affairs, U.S. Department of State.

[FR Doc. 00-18931 Filed 7-25-00; 8:45 am]

BILLING CODE 4700-11-P